DEPARTMENT OF ENERGY

Federal Energy Regulatory Commission

Combined Notice of Filings #1

Take notice that the Commission received the following electric corporate filings:

Docket Numbers: EC14-32-000.

Applicants: Noble Americas Gas & Power Corp., Eagle Point Power Generation LLC.

Description: Application for approval Pursuant to Section 203 of the Federal Power Act, request for expedited consideration and request for privileged treatment re Noble Americas Gas & Power Corp et al.

Filed Date: 11/19/13.

Accession Number: 20131120-0001.

Comments Due: 5 p.m. ET 12/10/13

Take notice that the Commission received the following electric rate filings:

Docket Numbers: ER10-1674-003.

Applicants: Deseret Generation & Transmission Co-operative, Inc.

Description: Deseret Generation & Transmission Co-operative, Inc's Amendment to the July 2, 2013 Updated Market Power Analysis.

Filed Date: 11/20/13.

Accession Number: 20131120-5153.

Comments Due: 5 p.m. ET 12/11/13.

Docket Numbers: ER11-1858-002; ER11-1859-001.

Applicants: NorthWestern Corporation.

Description: Supplement to July 1, 2013 NorthWestern Corporation, et. al.'s updated market power screen analysis for wholesale electricity markets in the Northwest Region.

Filed Date: 11/20/13.

Accession Number: 20131120-5027.

Comments Due: 5 p.m. ET 12/11/13.

Docket Numbers: ER11-3697-005.

Applicants: Southern California Edison Company.

Description: Southern California Edison Company submits ETC Refund Report to be effective N/A.

Filed Date: 11/21/13.

Accession Number: 20131121-5003.

Comments Due: 5 p.m. ET 12/12/13.

Docket Numbers: ER14-16-000.

Applicants: Burgess Biopower LLC.

Description: Errata to October 2, 2013 Burgess Biopower LLC tariff filing.

Filed Date: 11/7/13.

Accession Number: 20131107-5123.

Comments Due: 5 p.m. ET 12/5/13.

Docket Numbers: ER14-437-000.

Applicants: Puget Sound Energy, Inc.

Description: Reassignment Tariff Revisions to be effective 6/30/2013.

Filed Date: 11/20/13.

Accession Number: 20131120-5082.

Comments Due: 5 p.m. ET 12/11/13.

Docket Numbers: ER14-438-000.

Applicants: Southwest Power Pool, Inc.

Description: Southwest Power Pool, Inc. submits 2198R13 Kansas Power Pool NITSA and NOA to be effective 11/1/2013.

Filed Date: 11/20/13.

Accession Number: 20131120-5102.

Comments Due: 5 p.m. ET 12/11/13.

Docket Numbers: ER14-439-000.

Applicants: PJM Interconnection, L.L.C.

Description: PJM Interconnection, L.L.C. submits Notice of Cancellation of Original Service Agreement No. 3343; Queue No. X1-005 to be effective 11/18/2013.

Filed Date: 11/20/13.

Accession Number: 20131120-5127.

Comments Due: 5 p.m. ET 12/11/13.

Docket Numbers: ER14-440-000.

Applicants: Southern California Edison Company.

Description: Southern California Edison Company submits Fully Executed GIA and Distribution Service Agmt with Rhodia Inc to be effective 11/22/2013.

Filed Date: 11/21/13.

Accession Number: 20131121-5001.

Comments Due: 5 p.m. ET 12/12/13.

Docket Numbers: ER14-441-000.

Applicants: Southern California Edison Company.

Description: Southern California Edison Company submits SGIA and Distribution Service Agreement with SEPV Palmdale East, LLC to be effective 11/22/2013.

Filed Date: 11/21/13.

Accession Number: 20131121-5002.

Comments Due: 5 p.m. ET 12/12/13.

Docket Numbers: ER14-442-000.

Applicants: Brookfield Energy Marketing LP.

Description: Petition of Brookfield Energy Marketing LP for Limited Waiver.

Filed Date: 11/21/13.

Accession Number: 20131121-5047.

Comments Due: 5 p.m. ET 12/12/13.

Docket Numbers: ER14-443-000.

Applicants: Southern California Edison Company.

Description: Southern California Edison Company submits tariff filing per 35.13(a)(2)(iii: GIAs and Distribution Service Agmts with Kona Solar LLC to be effective 11/22/2013.

Filed Date: 11/21/13.

Accession Number: 20131121-5094.

Comments Due: 5 p.m. ET 12/12/13.

Docket Numbers: ER14-444-000.

Applicants: New York Independent System Operator, Inc., Niagara Mohawk Power Corporation.

Description: New York Independent System Operator, Inc. submits Cost Reimbursement Agreement No. 2056 Between NYSEG and Niagara Mohawk to be effective 10/1/2013.

Filed Date: 11/21/13.

Accession Number: 20131121-5138.

Comments Due: 5 p.m. ET 12/12/13.

Take notice that the Commission received the following electric securities filings:

Docket Numbers: ES14-11-000.

Applicants: Southern Power Company.

Description: Application of Southern Power Company for authorization to issue securities under Section 204 of the Federal Power Act and request for exemption from competitive bidding requirements.

Filed Date: 11/21/13.

Accession Number: 20131121-5118.

Comments Due: 5 p.m. ET 12/12/13.

Docket Numbers: ES14-12-000.

Applicants: Southwest Power Pool, Inc.

Description: Application of Southwest Power Pool, Inc. Under Section 204 of the Federal Power Act for an Order Authorizing the Issuance of Securities.

Filed Date: 11/21/13.

Accession Number: 20131121-5120.

Comments Due: 5 p.m. ET 12/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2013.
Nathaniel J. Davis, Sr.,
Deputy Secretary.

[FR Doc. 2013-28798 Filed 12-2-13; 8:45 am]

BILLING CODE 6717-01-P